DEPARTMENT OF HOUSING AND URBAN DEVELOPMENT

[Docket No. FR-5058-N-01]

Regulatory and Administrative Waivers Granted for Public and Indian Housing Programs To Assist With Recovery and Relief in Hurricane Wilma Disaster Areas

AGENCY: Office of the Assistant Secretary for Public and Indian Housing, HUD.

ACTION: Notice.

SUMMARY: This notice makes available to entities that administer HUD's Public and Indian Housing programs and are located in an area declared by the President to be a Federal disaster area as a result of Hurricane Wilma, the regulatory waivers and alternative administrative requirements that were made available to entities located in Hurricane Katrina and Hurricane Rita disaster areas, under the same processes described in the November 1, 2005, Federal Register notice.

DATES: Effective Date: March 7, 2006.

FOR FURTHER INFORMATION CONTACT: PIH Disaster Relief Officer, Office of Policy Programs and Legislation, Office of Public and Indian Housing, Department of Housing and Urban Development, 451 Seventh Street, SW., Room 4116, Washington, DC 20410-5000, telephone number (202) 708-4016, extension 4245, or (202) 708-0713, extension 7651. Persons with hearing or speech impairments may access this number via TTY by calling the Federal Information Relay Service at (800) 877-8339.

SUPPLEMENTARY INFORMATION:

I. Background Information

A. Responding to Hurricanes Katrina and Rita

On October 3, 2005 (70 FR 57716) and November 1, 2005 (70 FR 66222), HUD published Federal Register notices designed to assist with relief to areas affected by Hurricane Katrina and Hurricane Rita respectively. Both notices advised the public of HUD regulations and other administrative requirements governing HUD's Office of Public and Indian Housing (PIH) programs that were being waived in order to facilitate the delivery of safe and decent housing under these programs to families and individuals who have been displaced from their housing by Hurricane Katrina and Hurricane Rita.

The October and November 2005 notices advised that entities that administer PIH programs, which include public housing agencies (PHAs), Indian and tribally designated housing entities (TDHEs), and local and tribal governments, and are located in an area declared by the President to be a Federal disaster area as a result of Hurricane Katrina or Hurricane Rita (depending upon the notice), were eligible to defer compliance with the regulations and other requirements listed in the notices for an initial period of 12 months or such other period as may be specified in the notice.

Both notices also advised that PIH program administrators that are not located in a disaster area but that were assisting, respectively, with Hurricane Katrina or Hurricane Rita recovery and relief, were eligible to request waiver of the regulations and administrative requirements listed in these notices, and HUD review and response would occur through an expedited waiver request and response process. PIH program administrators, located in an area declared a federal disaster area as a result of Hurricane Katrina or Hurricane Rita, or PIH program administrators not located in such an area but assisting with Hurricane Katrina or Hurricane Rita relief and recovery efforts, were eligible under these notices to request waiver of a regulation or other administrative requirement through the expedited waiver process provided in this notice.

Finally, both Federal Register publications emphasized that the notices applied only to PIH programs or to cross-cutting regulatory or administrative requirements that are applicable to PIH program administrators.

B. Responding to Hurricane Wilma

The relief and recovery efforts that have been underway in the Gulf States, since the Hurricanes Katrina and Rita occurred, have revealed that Hurricane Wilma, which struck South Florida on October 23, 2005, resulted in greater damage than initially realized. Therefore, to assist PIH program administrators located in Hurricane Wilma disaster areas, which are mapped and can be found at http://www.fema.gov/news/event.fema?id=5145, similar to the relief provided to PIH program administrators located in Hurricane Katrina and Rita disaster areas, this notice makes available to PIH program administrators in Hurricane Wilma disaster areas the regulatory waivers and alternative administrative requirements set forth in the November 1, 2005, notice, which was a slightly more expansive notice than the October 3, 2005 notice.

II. Waiver Process for Hurricane Wilma Disaster Areas

A. For PIH Program Administrators in Declared Hurricane Wilma Disaster Areas

Entities that administer public or Indian housing or voucher programs and are located in the areas declared a Federal disaster area as a result of Hurricane Wilma may defer or suspend compliance with the regulations and other administrative requirements listed in HUD's November 1, 2005, Federal Register notice (70 FR 66222) with the exception of the waiver of the payment standard provision in section III.B.12 of the November 1, 2005, notice. With that one exception, PIH program administrators in the Hurricane Wilma disaster areas may defer or suspend compliance with the regulations or other administrative requirements upon the effective date of this notice, for an initial period of 12 months or for such other period as may be specified in this notice. These entities, however, should notify HUD within two weeks of determination of the need to utilize the waived requirements in this notice, or as soon as possible, by contacting HUD in the manner detailed in the following paragraph.

An official of the PHA, TDHE, tribal or local government that seeks the suspension of compliance with requirements listed in this notice must contact HUD in writing (e-mail communication is allowed) and identify the requirements by section and number utilized in the November 1, 2005, notice (e.g., section III.A.2., section III.B.1, 2, 3, etc., or “all of the waived or suspended requirements applicable to public housing and voucher programs or to Indian housing in section III”). The following e-mail address has been established in order to expedite the process: Pih_Wilmadisaster_Relief@hud.gov. Please note that this e-mail address is different from the e-mail addresses provided for Hurricane Katrina and Hurricane Rita. In addition, identical checklists of the waived or suspended requirements identified and numbered in section III of the notices for Hurricanes Katrina and Rita are available at HUD's Web site at http://www.hud.gov/katrina/proguidance.cfm, and an eligible PHA THDE, tribal or local government can use either of these checklists to identify the waived or suspended requirements that it will utilize, but should strike references to Katrina or Rita, and insert Wilma, and follow the instructions in this notice for submitting the checklist to HUD.

This is a notification process only, and HUD asks that this notification be made to HUD no later than two weeks after a PHA determines the need to rely on one or more or all of the waived or suspended requirements in this notice. While, as noted earlier, HUD does not want to impose additional administrative requirements on PIH program administrators located in the disaster areas during this period, it is important and helpful for HUD to know how these entities are administering their PIH programs during the recovery period, as HUD has tried to make this notification process as easy as possible. HUD will maintain information on the names of the PHAs, Indian tribes, or TDHEs that have deferred compliance with certain regulatory and administrative requirements in accordance with this notice. The regulation or administrative requirement will remain inapplicable for a period of 12 months and will be considered waived or suspended by HUD for an additional three months upon notification to HUD following the same notification process described above.

B. For PIH Program Participants in Non-Disaster Declared Areas

PIH program administrators that are not located in a Hurricane Wilma disaster area but are contributing to Hurricane Wilma relief and recovery efforts may request a waiver of the regulations or administrative requirements listed in the November 1, 2005, notice by sending the checklist referenced in section II (A.) above, and request for waiver(s) to the Pih_Wilmadisaster_Relief@hud.gov e-mail address. The request must specify the need, including justification, for the waiver of the requirement. Waiver requests submitted through this e-mail address will receive priority processing.

C. Regulations and Requirements Not Waived in the November 1, 2005, Notice

Based on experience to date with Hurricane Katrina and Hurricane Rita recovery efforts, PIH believes that the November 1, 2005, notice contains a comprehensive list of waivers that will assist with relief efforts for Hurricane Wilma. However, for any regulation or other administrative requirement not listed in the November 1, 2005, notice for which a PIH program administrator seeks waiver or suspension, the program administrator may seek a waiver by sending a request to the Pih_Wilmadisaster_Relief@hud.gov e-mail address. The request must specify the need, including justification, for the waiver of the requirement. As noted earlier, waiver requests submitted through this e-mail address will receive priority processing, and HUD will respond to the requestor by e-mail.

The expedited waiver process is provided only for waiver or suspension of requirements that will assist with the Hurricane Wilma relief and recovery efforts. HUD will not respond to any waiver requests submitted to this e-mail address that are unrelated to relief and recovery of the disaster areas.

Dated: March 7, 2006.
Orlando J. Cabrera,
Assistant Secretary for Public and Indian Housing.

[FR Doc. 06-2394 Filed 3-10-06; 8:45 am]

BILLING CODE 4210-67-P